DEPARTMENT OF THE INTERIOR

Bureau of Indian Affairs

25 CFR Part 82

[1120A2100DD/AAKC001030/A0A501010.999900 253G]

RIN 1076-AF51

Procedures for Federal Acknowledgment of Alaska Native Entities

AGENCY: Bureau of Indian Affairs, Interior.

ACTION: Proposed rule; public meeting.

SUMMARY: This document announces that the Department of the Interior (Department) will be holding an additional public meeting by teleconference, to receive input on the proposed rule that would address how Alaska Native entities may become acknowledged as an Indian Tribe pursuant to the Alaska Amendment to the Indian Reorganization Act.

DATES: The public meeting will be held on Wednesday, February 26, 2020.

ADDRESSES: This is a virtual meeting. The call-in number is: 800-857-9752. The passcode is: 8078300.

FOR FURTHER INFORMATION CONTACT: Elizabeth Appel, Director, Office of Regulatory Affairs & Collaborative Action, (202) 273-4680; elizabeth.appel@bia.gov.

SUPPLEMENTARY INFORMATION: On January 2, 2020, the Department published a proposed rule that would establish an acknowledgment process for entities in Alaska that were not recognized as bands or Tribes before 1936. See 84 FR 37. The Department is providing an additional opportunity for the public to provide comments by phone on February 26, 2020, at 1 p.m. Eastern Time. The call-in number is: 800-857-9752. The passcode is: 8078300.

Dated: February 7, 2020.
Tara Sweeney,
Assistant Secretary—Indian Affairs.

[FR Doc. 2020-03736 Filed 2-21-20; 8:45 am]

BILLING CODE 4337-15-P